DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the reinstatement without change of the previously approved information collection project “Online Submission Form for Supplemental Evidence and Data for Systematic Reviews for the Evidence-based Practice Center Program.” (OMB No. 0935-0231). This information collection was previously published in the Federal Register on September 19, 2025, and allowed 60 days for public comment. AHRQ did not receive any comments. The purpose of this notice is to allow an additional 30 days for public comment.

DATES: Comments on this notice must be received by January 16, 2026.

ADDRESSES: Written comments and recommendations for the proposed information collection should be sent within 30 days of publication of this notice to www.reginfo.gov/public/do/PRAMain. Find this particular information collection by selecting “Currently under 30-day Review—Open for Public Comments” or by using the search function.

Copies of the proposed collection plans, data collection instruments, and specific details on the estimated burden can be obtained from the AHRQ Reports Clearance Officer.

FOR FURTHER INFORMATION CONTACT: Margie Shofer, AHRQ Reports Clearance Officer, 301-427-1696 or by email at REPORTSCLEARANCEOFFICER@ahrq.hhs.gov.

SUPPLEMENTARY INFORMATION:

Proposed Project

Online Submission Form for Supplemental Evidence and Data for Systematic Reviews for the Evidence-Based Practice

AHRQ's EPC Program develops evidence reports on topics relevant to clinical and other health care organization and delivery issues—specifically those that are common, expensive, and/or significant for the Medicare and Medicaid populations. For example, recent reviews have focused on clinical conditions, such as “Cervical Degenerative Disease Treatment: A Systematic Review”; health delivery topics such as “Postpartum Care up to 1 Year After Pregnancy: A Systematic Review and Meta-Analysis”; and specific technologies such as “Blood-Based Tests for Multiple Cancer Screening: A Systematic Review.” These evidence reports include systematic reviews, technical briefs, and rapid reviews, and provide an essential foundation from which to understand what we know from existing research and what critical research gaps remain. These reports and reviews are based on rigorous, comprehensive syntheses and analyses of the scientific literature on topics. EPC reports and assessments emphasize explicit and detailed documentation of methods, rationale, and assumptions. EPC reports are conducted in accordance with an established policy on financial and nonfinancial interests. These scientific syntheses may include meta-analyses.

The EPC Program supports AHRQ's mission by synthesizing and disseminating the available research as a “science partner” with private and public organizations in their efforts to improve the quality, effectiveness, and appropriateness of health care. The EPC Program is a trusted source of rigorous, comprehensive, and unbiased evidence reviews for stakeholders. The resulting evidence reports are used by Federal and State agencies, private-sector professional societies, health delivery systems, providers, payers, and others committed to evidence-based health care. These end-users may use EPC Program evidence reports to inform policy decisions, clinical practice guidelines, and other healthcare decisions.

AHRQ requests that OMB approve the renewal, without change, of the “Online Submission Form for Supplemental Evidence and Data for Systematic Reviews for the Evidence-based Practice” (OMB No. 0935-0231, last approved on November 22, 2022).

This activity, Online Submission Form for Supplemental Evidence and Data for Systematic Reviews for the Evidence-based Practice Center Program, seeks to answer the following research question:

1. Are there research studies or other information that can promote the comprehensiveness of AHRQ Evidence-based Practice Center Program evidence reviews?

This research has the following goals:

1. Use research methods to gather knowledge on the effectiveness and harms of certain treatments and healthcare delivery processes and models for medical conditions, both published and unpublished, to evaluate the quality of research studies and the evidence from these studies.

2. Promote the use of evidence in healthcare decision making to improve healthcare and health.

3. Identify research gaps to inform future research investments.

This study is being conducted by AHRQ through its contractor, Portland VA Research Foundation, with website assistance from another contractor, Riva Solutions, pursuant to AHRQ's statutory authority to conduct and support research on health care and on systems for the delivery of such care, including activities with respect to the quality, effectiveness, efficiency, appropriateness and value of healthcare services and with respect to quality measurement and improvement [42 U.S.C 299a(a)(1) and (2)].

Method of Collection

To achieve the goals of this project the following data collection will be implemented:

• Online Submission Form. This information is collected for the purposes of providing supplemental evidence and data for systematic reviews (SEADS). The online submission form (OSF) collects data from respondents on their name, organization name, description of the submission, medical condition, intervention, and email address. For the purposes of meta-analyses, trial summary data from missing and unidentified studies are sought. For the purposes of constructing evidence tables and quality ratings (e.g., on public reporting of cost measures or health information exchange), data can vary (e.g., URLs, study designs, and consumer-mediated exchange forms). Information on both completed and ongoing studies are requested. Submitters may alternatively email their submission to the AHRQ EPC mailbox at epc@ahrq.hhs.gov.

The EPC Program currently uses broad-based email announcement to stakeholders and through AHRQ listservs, and in some cases an additional Federal Register notice to allow the public to know about each topic, and the opportunity to submit scientific information. AHRQ plans to conduct one SEADS collection per topic. Up to twenty-four topics per year with SEADS portals are anticipated; over the past 3 years the number of SEADS portals has ranged from 10-19; with an average range of 0-11 potential respondents per topic. The EPC Program does not anticipate more than 40 topics per year with SEADS portals.

Estimated Annual Respondent Burden

Exhibit 1 presents estimates of the reporting burden hours for the data collection efforts. Time estimates are based on pilot testing of materials and what can reasonably be requested of respondents. The number of respondents listed in “Number of respondents” of Exhibit 1 reflects a projected upper range response rate per SEADS portal multiplied by the anticipated upper limit of number of SEADS portals per year, based on historical information over the past 3 years. The total burden is estimated to be 50 hours.

Exhibit 1—Estimated Annualized Burden Hours
Form name | Number of respondents | Number of responses per respondent | Hours per response | Total burden hours
Online Submission Form (OSF) | 200 | 1 | 15/60 | 50
Total | 200 | 1 | 15/60 | 50

Exhibit 2 shows the annualized cost burden to submit the Online Submission Form. The cost burden is estimated to be $7,449.

Exhibit 2—Estimated Annualized Cost Burden
Form name | Total burden hours | Average hourly wage rate * | Adjusted hourly wage rate ** | Total cost burden
OSF | 50 | $74.49 | $148.98 | $7,449
Total | 50 | N/A | N/A | 7,449
* Occupational Employment Statistics, May 2024 National Occupational Employment and Wage Estimates United States, U.S. Department of Labor, Bureau of Labor Statistics. Based on the mean wages for Public Relations and Fundraising Managers, 11-2030, the occupational group most likely tasked with completing the OSF. http://www.bls.gov/oes/current/oes_nat.htm#b29-0000.
** The Adjusted Hourly Rate was estimated at 200% of the hourly wage.

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: December 8, 2025.
Jeffrey Toven,
Executive Officer.

[FR Doc. 2025-23094 Filed 12-16-25; 8:45 am]

BILLING CODE 4160-90-P